DEPARTMENT OF STATE

[Public Notice: 10217]

60-Day Notice of Proposed Information Collection: Generic Clearance for the Collection of Qualitative Feedback on Agency Service Delivery

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to February 13, 2018.

ADDRESSES: You may submit comments by any of the following methods:

• Web: Persons with access to the internet may comment on this notice by going to www.Regulations.gov. You can search for the document by entering “Docket Number: DOS-2017-0044” in the Search field. Then click the “Comment Now” button and complete the comment form.

• Email: watkinspk@state.gov.

You must include the DS form number (if applicable), information collection title, and the OMB control number in any correspondence.

FOR FURTHER INFORMATION CONTACT: Direct requests for additional information regarding the collection listed in this notice, including requests for copies of the proposed collection instrument and supporting documents, to Pamela Watkins, Department of State, Office of Directives Management, 1800 G Street NW, Suite 2400, Washington, DC 20522-2202 who may be reached at watkinspk@state.gov.

SUPPLEMENTARY INFORMATION:

• Title of Information Collection: Generic Clearance for the Collection of Qualitative Feedback on Agency Service Delivery.

• OMB Control Number: 1405-0193.

• Type of Request: Extension of a Currently Approved Collection.

• Originating Office: Office of Directives Management, A/GIS/DIR.

• Form Number: Various public surveys.

• Respondents: Individuals responding to Department of State customer service evaluation requests.

• Estimated Number of Respondents: 1,000,000.

• Estimated Number of Responses: 1,000,000.

• Average Time Per Response: 3.5 minutes.

• Total Estimated Burden Time: 58,333 annual hours.

• Frequency: Once per request.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The “30-Day Notice of Proposed Information Collection: Generic Clearance for the Collection of Qualitative Feedback on Agency Service Delivery” was published on June 22, 2017 (82 FR 28543), and renewed with a new expiration date of 7-31-2020. The publication of this Federal Register notice increases the number of respondents from 325,000 to 1,000,000 to continue to allow the Department to collect qualitative customer feedback in an efficient, timely manner, in accordance with the Administration's commitment to improving service delivery.

Methodology

Respondents will fill out a brief customer survey after completing their interaction with a Department Program Office or Embassy. Surveys are designed to gather feedback on the customer's experiences.

Janet Freer,
Director, Office of Directives Management, Department of State.

[FR Doc. 2017-27044 Filed 12-14-17; 8:45 am]

BILLING CODE 4710-24-P